FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 30, 2009.

A. Federal Reserve Bank of Atlanta (Steve Foley, Vice President) 1000 Peachtree Street, N.E., Atlanta, Georgia 30309:

1. James Michael Hattaway, Winter Springs, Florida; James Lewis Hewitt, Orlando, Florida; Vincent Smith Hughes, Orlando, Florida; Richard Terrell McCree, Orlando, Florida; David Gene Powers, Alamonte Springs, Florida; Donald Franklin Wright, Winter Springs, Florida; and David McLeod, Orlando, Florida; to collectively acquire voting shares of Riverside Central Florida Banking Company, and thereby indirectly acquire voting shares of Riverside Bank of Central Florida, both of Winter Park, Florida.

Board of Governors of the Federal Reserve System, December 10, 2009.
Robert deV. Frierson,
Deputy Secretary of the Board.

[FR Doc. E9-29791 Filed 12-14-09; 8:45 am]

BILLING CODE 6210-01-S